DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Region Vessel and Gear Identification Requirements.

Form Number(s): None.

OMB Approval Number: 0648-0360.

Type of Request: Regular submission.

Burden Hours: 1,134.

Number of Respondents: 301.

Average Hours Per Response: Vessel marking for South Pacific tuna vessels, 1 hour and 15 minutes; for all other vessels, 45 minutes; gear marking, 2 minutes.

Needs and Uses: This collection of information covers regulatory requirements for fishing vessel and gear identification authorized under the Magnuson-Stevens Fishery Conservation and Management Act and other applicable law. The vessels in federally-regulated fisheries in the western Pacific region are required to display the vessel's official number in three locations. Purse seine vessels in the South Pacific are required to display their international radio call sign in three locations and on any helicopter or skiff. The fishing gear in the western Pacific pelagic longline fisheries, Northwestern Hawaiian Islands crustacean fishery, and western Pacific coral reef ecosystem fisheries are required to be marked with the vessel's official number in a specific manner and location. This collection renews OMB Control No. 0648-0360 and adds vessel identification requirements for western Pacific fisheries and the South Pacific purse seine fishery from OMB Control No. 0648-0361. The vessel identification requirements for fisheries off the U.S. west coast will continue to be covered under OMB Control No. 0648-0361.

Affected Public: Business or other for-profit organizations; individuals or households.

Frequency: Annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at: dHynek@doc.gov).

Written comments and recommendations for the proposed information collection should be sent within 30 days of publication of this notice to David Rostker, OMB Desk Officer, Fax number (202) 395-7285, or David_Rostker@omb.eop.gov.

Dated: March 20, 2008.
Gwellnar Banks,
Management Analyst, Office of the Chief Information Officer.

[FR Doc. E8-6046 Filed 3-25-08; 8:45 am]

BILLING CODE 3510-22-P